DEPARTMENT OF HEALTH AND HUMAN SERVICES

National Institutes of Health

National Institute on Minority Health and Health Disparities; Amended Notice of Closed Meeting

Notice is hereby given of a change in the meeting of the National Institute on Minority Health and Health Disparities Special Emphasis Panel, April 22, 2025, 8:00 a.m. to April 24, 2025, 10:00 p.m., National Institutes of Health, NIMHD, DEM II, Suite 800, 6707 Democracy Boulevard, Bethesda, MD 20892 which was published in the Federal Register on March 26, 2025, FR Doc 2025-05073, 90 FR 13759.

This meeting notice is being amended to change the start date from April 22, 2025 to April 21, 2025. The meeting end time on April 24, 2025 has changed from 10:00 p.m. to 11:00 a.m. The meeting is closed to the public.

Dated: April 1, 2025.
David W. Freeman,
Supervisory Program Analyst, Office of Federal Advisory Committee Policy.

[FR Doc. 2025-05878 Filed 4-4-25; 8:45 am]

BILLING CODE 4140-01-P